GENERAL SERVICES ADMINISTRATION

[Notice MV-2020-02; Docket No. 2020-0002; Sequence No. 27]

Notice of GSA Live Webinar Regarding GSA's Implementation of Section 889 of the FY 2019 National Defense Authorization Act (NDAA)

AGENCY: Office of Governmentwide Policy (OGP), General Services Administration (GSA).

ACTION: Virtual Webinar Meeting notice.

SUMMARY: The General Services Administration (GSA) is committed to fostering productive relationships between GSA and its industry partners. Toward that end, GSA is hosting a live and recorded virtual webinar on August 12, 2020.

DATES: Wednesday, August 12, 2020, at 1:00 p.m. Eastern Standard Time (EST).

ADDRESSES: The webinar will be held virtually and the call-in information will be made available to registrants. Industry partners wishing to virtually attend must register HERE. Members of the press, in addition to registering for this event, must also RSVP to press@gsa.gov by August 10, 2020.

FOR FURTHER INFORMATION CONTACT: Patricia Richardson at patricia.m.richardson@gsa.gov or Maria Swaby at 202-208-0291.

SUPPLEMENTARY INFORMATION:

Background

Section 889 of the FY 2019 National Defense Authorization Act (NDAA)legislation was passed to combat national security and intellectual property threats that face the United States and contains two prohibitions: Part A and Part B.

• Part A went into effect last year (August 13, 2019), and prohibits the government from buying or obtaining certain prohibited telecommunications and video surveillance equipment and services.

• Part B will go into effect on (August 13, 2020), and prohibits the government from contracting with any entity that uses certain prohibited telecommunications and video surveillance equipment or services, regardless of whether or not that usage is in performance of work under a government contract. The Part B prohibition applies to every sector and every dollar amount. Your contracts will be impacted by Part B.

Format

GSA's live and recorded virtual webinar features panel leaders from GSA's business lines who will explain how they are implementing Section 889 FAR rule in their specific business lines. Panelists will also answer questions that have been pre-collected from industry. Please send in your questions no later than COB August 5, 2020, Eastern to gsaombudsman@gsa.gov.

Special Accommodations

This virtual meeting is accessible to people with Disabilities as Zoom has a close captioned feature.

Live Webinar Panelists

• Michael Thompson, Senior Policy Advisor General Services Acquisition Policy Division, OGP, Moderator

• Stephanie Shutt, Director, Multiple Awards Schedule Program Management Office, FAS

• Mary Gartland, Director City Pair Program, Office of Travel, Employee Relocation, and Transportation, FAS

• Lawrence Hale, Director, IT Security Subcategory Office of Information Technology Category, FAS

• Julie Milner, Director, Special Programs Division, Office of Project Delivery, Office of Design and Construction, PBS

• Chip Pierpont, Director, Innovation Technology and Performance Division, Office of Facilities Management, PBS

• Justin Hawes, Division Director, Lease Policy and Innovation Division, Office of Leasing, PBS

• Len Fedoruk, Director, Vehicle Purchasing Division Office of Motor Vehicle Management, FAS

Agenda

• 1:00-1:05: GSA Ombudsman Welcome

• 1:05-1:10: Introduction of Panel participants by GSA Moderator.

• 1:10-2:25: Panel discussion of GSA's 889 Implementation by Business lines

• 2:25-2:30: GSA Ombudsman Close out

Maria Swaby,
GSA Procurement Ombudsman & Industry Liaison, General Services Administration.

[FR Doc. 2020-15846 Filed 7-21-20; 8:45 am]

BILLING CODE 6820-61-P